DEPARTMENT OF DEFENSE

Department of the Army

Command and General Staff College Advisory Committee

AGENCY: Department of the Army, DOD

ACTION: Notice of open meeting.

SUMMARY: In accordance with section 10(a)(2) of the Federal Advisory Committee Act (Pub. L. 92-463) announcement is made of the following committee meeting:

Name of Committee: U.S. Army Command and General Staff College (CGSC) Advisory Committee.

Date of Meeting: April 28-30, 2003.

Place of Meeting: Bell Hall, Room 113, Fort Leavenworth, KS 66027-1352.

Time of Meeting: 5 p.m.-10 p.m. (April 28, 2003); 7:30 a.m.-9 p.m. (April 29, 2003); and 7:30 a.m.-2 p.m. (April 30, 2003).

Proposed Agenda: Review of CGSC educational program (April 28-30,2003); Executive Session (10:30 a.m.-11:30 a.m., April 30, 2003); and Report to Commandant (11:30 a.m.-12:30 p.m., April 30, 2003).

FOR FURTHER INFORMATION CONTACT: Dr. Philip J. Brookes, Committee's Executive Secretary, USACGSC Advisory Committee, 1 Reynolds Ave., Bell Hall, Room 119, Fort Leavenworth, KS 66027-1352; or phone (913) 684-2741.

SUPPLEMENTARY INFORMATION: The purpose of the meeting is for the Advisory Committee to examine the entire range of college operations and, where appropriate, to provide advice and recommendations to the College Commandant and faculty.

The meeting will be open to the public to the extent that space limitations of the meeting location permit. Because of these limitations, interested parties are requested to reserve space by contacting the Committee's Executive Secretary at the above address or phone number.

Luz D. Ortiz,
Army Federal Register Liaison Officer.

[FR Doc. 03-8230 Filed 4-3-03; 8:45 am]

BILLING CODE 3710-08-M